DEPARTMENT OF HOMELAND SECURITY

Federal Emergency Management Agency

[Docket ID: FEMA-2017-0028; OMB No. 1660-0058]

Agency Information Collection Activities: Submission for OMB Review; Comment Request; Fire Management Assistance Grant Program

AGENCY: Federal Emergency Management Agency, DHS.

ACTION: Correction notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use. FEMA is publishing this notice to correct a misstatement in a previous notice that this collection was a reinstatement, with change, of a currently approved information collection. This collection is actually being submitted to the Office of Management of Budget for review and clearance as an extension, without change, of a currently approved collection.

DATES: Comments must be submitted on or before February 26, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Records Management Division, 500 C Street SW, Washington, DC 20472, email address FEMA-Information-Collections-Management@fema.dhs.gov or Allen Wineland, FMAG Program Manager, Office of Response & Recovery, FEMA, (202) 702-1472.

SUPPLEMENTARY INFORMATION: This proposed information collection notice previously published in the Federal Register on January 26, 2018 at 83 FR 3763 with a 30 day public comment period. The notice incorrectly stated that this collection was a reinstatement, with change, of a currently approved information collection. This collection is being submitted to the Office of Management of Budget for review and clearance as an extension, without change, of a currently approved collection.

Collection of Information

Title: Fire Management Assistance Grant Program.

Type of information collection: Extension, without change, of a currently approved information collection.

OMB Number: 1660-0058.

Form Titles and Numbers: FEMA Form 078-0-1, Request for Fire Management Assistance Declaration; FEMA Form 089-0-24, Request for Fire Management Sub-grant; FEMA Form 078-0-2, Principal Advisor's Report.

Abstract: The information collection is required to make grant eligibility determinations for the Fire Management Assistance Grant Program (FMAGP). These eligibility-based grants and subgrants provide assistance to any eligible State, Indian tribal government, or local government for the mitigation, management, and control of a fire on public or private forest land or grassland that is threatening such destruction as would constitute a major disaster. The data/information gathered in the forms is used to determine the severity of the threatening fire, current and forecast weather conditions, and associated factors related to the fire and its potential threat as a major disaster.

Affected Public: State, local, or Tribal Government.

Estimated Number of Respondents: 178.

Estimated Number of Responses: 553.

Estimated Total Annual Burden Hours: 811.

Estimated Total Annual Respondent Cost: The estimated annual cost to respondents for the hour burden is $56,281.

Estimated Respondents' Operation and Maintenance Costs: There are no annual costs to respondents operations and maintenance costs for technical services.

Estimated Respondents' Capital and Start-Up Costs: There is no annual start-up or capital costs.

Estimated Total Annual Cost to the Federal Government: The cost to the Federal Government is $612,370.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 1, 2018.
William Holzerland,
Director, Information Management Division, Mission Support, Federal Emergency Management Agency, Department of Homeland Security.

[FR Doc. 2018-02487 Filed 2-7-18; 8:45 am]

BILLING CODE 9111-23-P